DEPARTMENT OF HEALTH AND HUMAN SERVICES

Administration for Children and Families

Proposed Information Collection Activity; Comment Request

Proposed Projects

Title: Evaluation of the Head Start Region III I am Moving, I am Learning (IM/IL) Program.

OMB No.: New Collection.

Description: The purpose of this evaluation is to examine the implementation of the Head Start project I am Moving, I am Learning (IM/IL) as a preventive intervention targeting obesity in children. IM/IL was designed to fit within the Head Start Performance Standards and the Head Start Child Outcomes Framework through enhancements to current teaching and family support practices by providing more focused guidance on quality movement, gross and fine motor development, and child nutrition.

This data collection will be conducted among programs implementing IM/IL in Region III and will gain information about each site's program context and service components, including level of adoption of IM/IL enhancements, intensity of implementation, and sustainability of enhancements. Outcomes and goals of the IM/IL program that can be measured will also be assessed.

Respondents: Head Start directors, management teams, teachers, and staff in Region III that received IM/IL training; parents or guardians of children who attend Head Start programs where IM/IL is being implemented.

Annual Burden Estimates
Instrument | Number of respondents | Number of responses per respondent | Average burden hours per response | Total burden hours
Head Start Managers of IM/IL: Telephone Interview | 81 | 1 | 2 | 162
Head Start Managers of IM/IL: Questionnaire | 81 | 2 | 1 | 162
Head Start Teachers: Telephone Interview | 243 | 1 | 2 | 486
Head Start Teachers: Questionnaire | 243 | 2 | 1 | 486
Head Start Managers of IM/IL and Teachers: Focus Group | 342 | 1 | 2 | 684
Parents/Guardians: Focus Group | 192 | 1 | 2 | 384

Estimated Total Annual Burden Hours: 2,364.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 1, 2006.
Robert Sargis,
Reports Clearance Officer.

[FR Doc. 06-5175 Filed 6-6-06; 8:45 am]

BILLING CODE 4184-01-M